FEDERAL HOUSING FINANCE BOARD

[No. 2002-N-3]

Federal Home Loan Bank Members Selected for Community Support Review

AGENCY: Federal Housing Finance Board.

ACTION: Notice.

SUMMARY: The Federal Housing Finance Board (Finance Board) is announcing the Federal Home Loan Bank (Bank) members it has selected for the 2002-03 first quarter review cycle under the Finance Board's community support requirement regulation. This notice also prescribes the deadline by which Bank members selected for review must submit Community Support Statements to the Finance Board.

DATES: Bank members selected for the 2002-03 first quarter review cycle under the Finance Board's community support requirement regulation must submit completed Community Support Statements to the Finance Board on or before May 31, 2002.

ADDRESSES: Bank members selected for the 2002-03 first quarter review cycle under the Finance Board's community support requirement regulation must submit completed Community Support Statements to the Finance Board either by regular mail at the Office of Policy, Research and Analysis, Program Assistance Division, Federal Housing Finance Board, 1777 F Street, NW., Washington, DC 20006, or by electronic mail at FITZGERALDE@FHFB.GOV.

FOR FURTHER INFORMATION CONTACT: Emma J. Fitzgerald, Program Analyst, Office of Policy, Research and Analysis, Program Assistance Division, by telephone at 202/408-2874, by electronic mail at FITZGERALDE@FHFB.GOV, or by regular mail at the Federal Housing Finance Board, 1777 F Street, NW., Washington, DC 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the May 31, 2002 deadline prescribed in this notice. 12 CFR 944.2(b)(1)(ii) and (c). On or before April 26, 2002, each Bank will notify the members in its district that have been selected for the 2002-03 first quarter community support review cycle that they must complete and submit to the Finance Board by the deadline a Community Support Statement. 12 CFR 944.2(b)(2)(i). The member's Bank will provide a blank Community Support Statement Form, which also is available on the Finance Board's web site: WWW.FHFB.GOV. Upon request, the member's Bank also will provide assistance in completing the Community Support Statement.

The Finance Board has selected the following members for the 2002-03 first quarter community support review cycle:

Member | City | State
Federal Home Loan Bank of Boston—District 1
The Canaan National Bank | Canaan | Connecticut.
Advest Bank and Trust Company | Hartford | Connecticut.
Litchfield Bancorp | Litchfield | Connecticut.
The Milford Bank | Milford | Connecticut.
NewMil Bank | New Milford | Connecticut.
Prime Bank | Orange | Connecticut.
National Iron Bank | Salisbury | Connecticut.
The First National Bank of Suffield | Suffield | Connecticut.
Savings Institute | Willimantic | Connecticut.
Mechanics Savings Bank | Auburn | Maine.
Pepperell Bank & Trust | Biddeford | Maine.
Oxford Federal Credit Union | Mexico | Maine.
Adams Co-operative Bank | Adams | Massachusetts.
Beverly Co-operative Bank | Beverly | Massachusetts.
Capital Crossing Bank | Boston | Massachusetts.
Wainwright Bank & Trust | Boston | Massachusetts.
Brookline Cooperative Bank | Brookline | Massachusetts.
Chelsea-Provident Co-operative Bank | Chelsea | Massachusetts.
East Boston Savings Bank | East Boston | Massachusetts.
East Bridgewater Savings Bank | East Bridgewater | Massachusetts.
Fall River Five Cents Savings Bank | Fall River | Massachusetts.
The First National Bank of Ipswich | Ipswich | Massachusetts.
Marlborough Co-operative Bank | Marlborough | Massachusetts.
Century Bank & Trust Company | Medford | Massachusetts.
Needham Co-operative Bank | Needham | Massachusetts.
Hoosac Bank | North Adams | Massachusetts.
North Brookfield Savings Bank | North Brookfield | Massachusetts.
Easton Cooperative Bank | North Easton | Massachusetts.
Cape Cod Five Cents Savings Bank | Orleans | Massachusetts.
Massachusetts Cooperative Bank | Quincy | Massachusetts.
Rockland Trust Company | Rockland | Massachusetts.
Cape Cod Bank and Trust Company, N.A | South Yarmouth | Massachusetts.
Chart Bank, A Cooperative Bank | Waltham | Massachusetts.
Westbank | West Springfield | Massachusetts.
UniBank for Savings | Whitinsville | Massachusetts.
Williamstown Savings Bank | Williamstown | Massachusetts.
St. Mary's Bank | Manchester | New Hampshire.
Community Guaranty Savings Bank | Plymouth | New Hampshire.
Community Bank & Trust Company | Wolfeboro | New Hampshire.
Coventry Credit Union | Coventry | Rhode Island.
Domestic Bank, FSB | Cranston | Rhode Island.
Bank Rhode Island | Providence | Rhode Island.
Home Loan and Investment Bank, FSB | Warwick | Rhode Island.
Citizens Savings Bank & Trust Company | St. Johnsbury | Vermont.
Federal Home Loan Bank of New York—District 2
UnitedTrustBank | Bridgewater | New Jersey.
Morgan Stanley Trust | Jersey City | New Jersey.
The Provident Bank | Jersey City | New Jersey.
Hudson United Bank | Mahwah | New Jersey.
Atlantic Stewardship Bank | Midland Park | New Jersey.
First Morris Bank | Morris Township | New Jersey.
City National Bank of New Jersey | Newark | New Jersey.
Bergen Commercial Bank | Paramus | New Jersey.
Vista Bank, NA | Phillipsburg | New Jersey.
Mon-Oc Federal Credit Union | Toms River | New Jersey.
Yardville National Bank | Trenton | New Jersey.
Hamilton Savings Bank | Union City | New Jersey.
First Washington State Bank | Windsor | New Jersey.
The Bank of Gloucester County | Woodbury | New Jersey.
The Canandaigua National Bank and Trust Company | Canandaigua | New York.
Country Bank | Carmel | New York.
Chemung Canal Trust Company | Elmira | New York.
National Bank of New York City | Flushing | New York.
New York Community Bank | Flushing | New York.
Hudson River Bank & Trust Company | Hudson | New York.
Long Island Commercial Bank | Islandia | New York.
Rondout Savings Bank | Kingston | New York.
First Niagara Bank | Lockport | New York.
State Bank of Long Island | New Hyde Park | New York.
Eastbank, N.A | New York | New York.
PathFinder Bank | Oswego | New York.
The Pavilion State Bank | Pavilion | New York.
Rhinebeck Savings Bank | Rhinebeck | New York.
Tioga State Bank | Spencer | New York.
ESL Federal Credit Union | Rochester | New York.
The Tupper Lake National Bank | Tupper Lake | New York.
The Warwick Savings Bank | Warwick | New York.
Banco Santander Puerto Rico | San Juan | Puerto Rico.
Federal Home Loan Bank of Pittsburgh—District 3
County Bank | Rehoboth Beach | Delaware.
Chelten Hills Savings Bank | Abington | Pennsylvania.
County National Bank | Clearfield | Pennsylvania.
Citizens Trust Company | Coudersport | Pennsylvania.
Downington National Bank | Downington | Pennsylvania.
Farmers National Bank of Emlenton | Emlenton | Pennsylvania.
First American Bank of Pennsylvania | Everett | Pennsylvania.
Southwest Bank | Greensburg | Pennsylvania.
Harleysville Savings Bank | Harleysville | Pennsylvania.
First National Bank of Pennsylvania | Hermitage | Pennsylvania.
Wayne Bank | Honesdale | Pennsylvania.
The Honesdale National Bank | Honesdale | Pennsylvania.
AmeriServ Financial | Johnstown | Pennsylvania.
Lebanon Valley Farmers Bank | Lebanon | Pennsylvania.
Luzerne National Bank | Luzerne | Pennsylvania.
Marion Center National Bank | Marion Center | Pennsylvania.
Old Forge Bank | Old Forge | Pennsylvania.
Northwood Savings Association | Philadelphia | Pennsylvania.
First National Bank of Port Allegany | Port Allegany | Pennsylvania.
Kishacoquillas Valley National Bank | Reedsville | Pennsylvania.
Community First Bank, N.A | Reynoldsville | Pennsylvania.
Farmers Building & Savings Bank | Rochester | Pennsylvania.
Hamlin Bank and Trust Company | Smethport | Pennsylvania.
Eagle National Bank | Upper Darby | Pennsylvania.
Bruceton Bank | Bruceton Mills | West Virginia.
Mountain Valley Bank, N.A | Elkins | West Virginia.
Calhoun County Bank | Grantsville | West Virginia.
Harrison County Bank | Lost Creek | West Virginia.
The Grant County Bank | Petersburg | West Virginia.
Union Bank of Tyler County | Sistersville | West Virginia.
First National Bank | St. Marys | West Virginia
The Terra Alta Bank | Terra Alta | West Virginia.
Federal Home Loan Bank of Atlanta—District 4
Frontier National Bank | Sylacauga | Alabama.
The Bank of Tuscaloosa | Tuscaloosa | Alabama.
The Citizens Bank of Winfield | Winfield | Alabama.
Adams National Bank | Washington | DC.
1st National Bank & Trust | Bradenton | Florida.
American Bank | Bradenton | Florida.
The Hernando County Bank | Brooksville | Florida.
Drummond Community Bank | Chiefland | Florida.
Crystal River Bank | Crystal River | Florida.
First National Bank of Pasco | Dade City | Florida.
BankFIRST | Eustis | Florida.
Community Bank of Florida | Homestead | Florida.
First National Bank of South Florida | Homestead | Florida.
Marine Bank of the Florida Keys | Marathon | Florida.
First National Bank of the Florida Keys | Marathon | Florida.
Fidelity Bank of Florida | Merritt Island | Florida.
Coconut Grove Bank | Miami | Florida.
The International Bank | Miami | Florida.
Peoples National Bank | Niceville | Florida.
Peoples National Bank | Niceville | Florida.
Security Bank, N.A | North Lauderdale | Florida.
Enterprise National Bank of Palm Beach | North Palm Beach | Florida.
Independent National Bank | Ocala | Florida.
First State Bank | Sarasota | Florida.
Prosperity Bank of St. Augustine | St. Augustine | Florida.
Republic Bank | St. Petersburg | Florida.
United Bank and Trust Company | St. Petersburg | Florida.
Guaranty National Bank of Tallahassee | Tallahassee | Florida.
Premier Bank | Tallahassee | Florida.
Tri-County Bank | Trenton | Florida.
Citrus Bank, N.A | Vero Beach | Florida.
First National Bank of Wauchula | Wauchula | Florida.
Adel Banking Company | Adel | Georgia.
Alma Exchange Bank and Trust | Alma | Georgia.
FNB South | Alma | Georgia.
NetBank | Alpharetta | Georgia.
Citizens Bank of Americus | Americus | Georgia.
Athens First Bank and Trust Company | Athens | Georgia.
Fidelity National Bank | Atlanta | Georgia.
The Bankers Bank | Atlanta | Georgia.
First Community Bank of Southwest Georgia | Bainbridge | Georgia.
Cairo Banking Company | Cairo | Georgia.
Georgia Bank & Trust | Calhoun | Georgia.
Community First Bank | Carrollton | Georgia.
Nbank | Commerce | Georgia.
Community Bank and Trust | Cornelia | Georgia.
Merchants and Farmers Bank | Donalsonville | Georgia.
Bank of Dudley | Dudley | Georgia.
Citizens Bank and Trust Company | Eastman | Georgia.
Bank of Ellaville | Ellaville | Georgia.
First National Bank of Griffin | Griffin | Georgia.
McIntosh State Bank | Jackson | Georgia.
The First National Bank | Louisville | Georgia.
Bank of Madison | Madison | Georgia.
Exchange Bank | Milledgeville | Georgia.
Bank of Monticello | Monticello | Georgia.
American Banking Company | Moultrie | Georgia.
Heritage Community Bank | Quitman | Georgia.
The Tattnall Bank | Reidsville | Georgia.
Bryan Bank and Trust | Richmond Hill | Georgia.
Northwest Georgia Bank | Ringgold | Georgia.
Rossville Bank | Rossville | Georgia.
West Central Georgia Bank | Thomaston | Georgia.
First National Bank of Cherokee | Woodstock | Georgia.
Allfirst Bank | Baltimore | Maryland.
Carrollton Bank | Baltimore | Maryland.
FBR National Bank & Trust | Bethesda | Maryland.
Glen Burnie Mutual Savings Bank | Glen Burnie | Maryland.
Hebron Savings Bank | Hebron | Maryland.
First Financial of Maryland FCU | Lutherville | Maryland.
Regal Bank & Trust | Owings Mills | Maryland.
Provident State Bank of Preston | Preston | Maryland.
The Queenstown Bank of Maryland | Queenstown | Maryland.
Blue Ridge Savings Bank, Inc. | Asheville | North Carolina.
Morris Plan Bank | Burlington | North Carolina.
Park Meridian Bank | Charlotte | North Carolina.
Yadkin Valley Bank and Trust Company | Elkin | North Carolina.
The Fidelity Bank | Fuquay-Varina | North Carolina.
Bank of Granite | Granite Falls | North Carolina.
Peoples Bank | Newton | North Carolina.
FNB Southeast | Reidsville | North Carolina.
Wake Forest Federal S&L Association | Wake Forest | North Carolina.
BB & T of NC | Wilson | North Carolina.
First Federal Savings and Loan Association | Charleston | South Carolina.
First Piedmont F&SL Association of Gaffney | Gaffney | South Carolina.
Horry County State Bank | Loris | South Carolina.
Orangeburg National Bank | Orangeburg | South Carolina.
The Old Point National Bank of Phoebus | Hampton | Virginia.
Chesapeake Bank | Kilmarnock | Virginia.
Community Bank of Northern Virginia | Sterling | Virginia.
Citizens and Farmers Bank | West Point | Virginia.
Federal Home Loan Bank of Cincinnati—District 5
Bank of Clinton County, Inc | Albany | Kentucky.
Citizens Deposit Bank of Arlington, Inc | Arlington | Kentucky.
Classic Bank | Ashland | Kentucky.
Peoples B&TC of Madison County | Berea | Kentucky.
Citizens Bank | Brodhead | Kentucky.
Deposit Bank of Carlisle | Carlisle | Kentucky.
Peoples State Bank | Chaplin | Kentucky.
Tri-County National Bank | Corbin | Kentucky.
The Farmers National Bank of Danville | Danville | Kentucky.
Dixon Bank | Dixon | Kentucky.
First Citizens Bank | Elizabethtown | Kentucky.
Farmers Bank and Capital Trust Company, Inc | Frankfort | Kentucky.
Franklin Bank & Trust Company | Franklin | Kentucky.
First National Bank & Trust Company | Georgetown | Kentucky.
The Farmers Bank and Trust Company | Georgetown | Kentucky.
The Peoples State Bank | Hodgenville | Kentucky.
United Southern Bank | Hopkinsville | Kentucky.
Kentucky Banking Centers | Horse Cave | Kentucky.
First Federal Bank | Lexington | Kentucky.
Republic Bank and Trust Company | Louisville | Kentucky.
The First National Bank of Mayfield | Mayfield | Kentucky.
Jackson County Bank | McKee | Kentucky.
The Farmers Bank of Milton | Milton | Kentucky.
Morehead National Bank | Morehead | Kentucky.
Peoples Bank & Trust Company | Owenton | Kentucky.
Springfield State Bank | Springfield | Kentucky.
Deposit Bank of Monroe | Tompkinsville | Kentucky.
Peoples Bank of Tompkinsville | Tompkinsville | Kentucky.
Citizens Deposit Bank & Trust | Vanceburg | Kentucky.
The Apple Creek Banking Company | Apple Creek | Ohio.
The First National Bank of Bellevue | Bellevue | Ohio.
Community First Bank and Trust | Celina | Ohio.
The Clyde Savings Bank Company | Clyde | Ohio.
The Community Bank | Crooksville | Ohio.
Dover-Phila Federal Credit Union | Dover | Ohio.
First Federal Savings Bank | Dover | Ohio.
First National Community Bank | East Liverpool | Ohio.
The Peoples Bank Inc. | Gambier | Ohio.
The Genoa Banking Company | Genoa | Ohio.
The Richland Trust Company | Mansfield | Ohio.
The Metamora State Bank | Metamora | Ohio.
Consumers National Bank | Minerva | Ohio.
The Henry County Bank | Napoleon | Ohio.
Home FS&LA of Niles | Niles | Ohio.
The Osgood State Bank | Osgood | Ohio.
Somerville National Bank | Somerville | Ohio.
Champaign National Bank and Trust | Urbana | Ohio.
First National Bank of Zanesville | Zanesville | Ohio.
Bank of Cleveland | Cleveland | Tennessee.
First Farmers and Merchants National Bank | Columbia | Tennessee.
Citizens Tri-County Bank | Dunlap | Tennessee.
Citizens Bank | Elizabethton | Tennessee.
Erwin National Bank | Erwin | Tennessee.
Andrew Johnson Bank | Greeneville | Tennessee.
City State Bank | Martin | Tennessee.
Union Planters Bank of the Lakeway Area | Morristown | Tennessee.
Capital Bank & Trust Company | Nashville | Tennessee.
The Bank of Nashville | Nashville | Tennessee.
The Oakland Deposit Bank | Oakland | Tennessee.
Farmers Bank | Parsons | Tennessee.
First National Bank of Pulaski | Pulaski | Tennessee.
First Century Bank | Tazewell | Tennessee.
Federal Home Loan Bank of Indianapolis—District 6
Community State Bank | Avilla | Indiana.
Bath State Bank | Bath | Indiana.
First State Bank of Berne | Berne | Indiana.
Monroe County Bank | Bloomington | Indiana.
The Farmers & Merchants Bank | Boswell | Indiana.
The Farmer State Bank | Brookston | Indiana.
People's Trust Company | Brookville | Indiana.
Irwin Union Bank | Columbus | Indiana.
Fountain Trust Company | Covington | Indiana.
DeMotte State Bank | DeMotte | Indiana.
Peoples State Bank of Ellettsville | Ellettsville | Indiana.
Integra Bank | Evansville | Indiana.
Bank of Geneva | Geneva | Indiana.
Mercantile National Bank of Indiana | Hammond | Indiana.
Bippus State Bank | Huntington | Indiana.
Meridian Security Insurance Company | Indianapolis | Indiana.
National City Bank of Indiana | Indianapolis | Indiana.
Salin Bank & Trust Company | Indianapolis | Indiana.
The National Bank of Indianapolis | Indianapolis | Indiana.
Kentland Bank | Kentland | Indiana.
Farmers State Bank | Lanesville | Indiana.
American State Bank | Lawrenceburg | Indiana.
Peoples Trust Company | Linton | Indiana.
Independence Bank | New Albany | Indiana.
Indiana Lawrence Bank | North Manchester | Indiana.
First National Bank of Portland | Portland | Indiana.
The Morris Plan Company of Terre Haute, Inc | Terre Haute | Indiana.
Lake City Bank | Warsaw | Indiana.
Peoples Loan & Trust Bank | Winchester | Indiana.
Alden State Bank | Alden | Michigan.
Midwest Financial Credit Union | Ann Arbor | Michigan.
Home Federal Savings Bank | Detroit | Michigan.
First National Bank of Michigan | East Lansing | Michigan.
The State Bank of Fenton | Fenton | Michigan.
Dort Federal Credit Union | Flint | Michigan.
First Bank, Upper Michigan, NA | Gladstone | Michigan.
United Bank of Michigan | Grand Rapids | Michigan.
MFC First National Bank | Houghton | Michigan.
MFC First National Bank | Iron Mountain | Michigan.
MFC First National Bank | Iron River | Michigan.
Lansing Automakers | Lansing | Michigan.
Farmers State Bank of Munith | Munith | Michigan.
Royal Oakland Community Credit Union | Royal Oak | Michigan.
North Country Bank | Traverse City | Michigan.
Federal Home Loan Bank of Chicago—District 7
Anchor State Bank | Anchor | Illinois.
State Bank of Auburn | Auburn | Illinois.
First State Bank of Beardstown | Beardstown | Illinois.
Germantown Trust and Savings Bank | Breese | Illinois.
The Bank of Carbondale | Carbondale | Illinois.
Highland Community Bank | Chicago | Illinois.
Uptown National Bank of Chicago | Chicago | Illinois.
Home State Bank/National Association | Crystal Lake | Illinois.
Farmers State Bank of Danforth | Danforth | Illinois.
Durand State Bank | Durand | Illinois.
First Community Bank | Elgin | Illinois.
Standard Bank and Trust Company | Evergreen Park | Illinois.
First Eagle National Bank | Hanover Park | Illinois.
Bank of Calhoun County | Hardin | Illinois.
The State Bank of Jerseyville | Jerseyville | Illinois.
First National Bank of Lacon | Lacon | Illinois.
The Farmers Bank of Liberty | Liberty | Illinois.
Banterra Bank | Marion | Illinois.
Maroa Forsyth Community Bank | Maroa | Illinois.
First Mid-Illinois Bank & Trust | Mattoon | Illinois.
First State Bank | Mendota | Illinois.
Citizens State Bank of Milford | Milford | Illinois.
Brown County State Bank | Mount Sterling | Illinois.
BankOrion | Orion | Illinois.
The Citizens National Bank of Paris | Paris | Illinois.
South Side Trust & Savings Bank | Peoria | Illinois.
Bank of Pontiac | Pontiac | Illinois.
Princeville State Bank | Princeville | Illinois.
The Farmers National Bank of Prophetstown | Prophetstown | Illinois.
Lakeland Community Bank | Round Lake Heights | Illinois.
Marion County Savings Bank | Salem | Illinois.
The National Bank | Savanna | Illinois.
Bank of Springfield | Springfield | Illinois.
First Community State Bank | Staunton | Illinois.
First National Bank in Taylorville | Taylorville | Illinois.
First National Bank of Waterloo | Waterloo | Illinois.
Williamsville State Bank and Trust | Williamsville | Illinois.
Hinsbrook Bank and Trust | Willowbrook | Illinois.
The Baraboo National Bank | Baraboo | Wisconsin.
Union Bank of Blair | Blair | Wisconsin.
Great Midwest Bank, S.S.B | Brookfield | Wisconsin.
First National Bank of Eagle River | Eagle River | Wisconsin.
Royal Bank | Elroy | Wisconsin.
State Bank of Florence | Florence | Wisconsin.
Bank of Galesville | Galesville | Wisconsin.
First National Bank of Hartford | Hartford | Wisconsin.
Coulee State Bank | La Crosse | Wisconsin.
Citizens State Bank of Loyal | Loyal | Wisconsin.
Bank of Luxemburg | Luxemburg | Wisconsin.
First Business Bank | Madison | Wisconsin.
Columbia Savings and Loan Association | Milwaukee | Wisconsin.
Citizens Bank of Mukwonago | Mukwonago | Wisconsin.
First State Bank | New London | Wisconsin.
S&C Bank | New Richmond | Wisconsin.
First Bank Financial Centre | Oconomowoc | Wisconsin.
Community Bank of Oconto County | Oconto Falls | Wisconsin.
River Valley State Bank | Rothschild | Wisconsin.
River Bank | Stoddard | Wisconsin.
Community Bank | Superior | Wisconsin.
Bank of Verona | Verona | Wisconsin.
Marathon Savings Bank | Wausau | Wisconsin.
Bank North | Wausaukee | Wisconsin.
Federal Home Loan Bank of Des Moines—District 8
Liberty Bank, F.S.B | Arnolds Park | Iowa.
Citizens Bank & Trust | Belle Plaine | Iowa.
City State Bank | Central City | Iowa.
Midwest Heritage Bank FSB | Chariton | Iowa.
Iowa State Bank | Des Moines | Iowa.
Peoples Savings Bank | Elma | Iowa.
Lee County Bank & Trust, NA | Fort Madison | Iowa.
Grinnell State Bank | Grinnell | Iowa.
Security State Bank | Independence | Iowa.
Community First Bank | Keosauqua | Iowa.
Great River Bank and Trust | LeClaire | Iowa.
Pleasantville State Bank | Pleasantville | Iowa.
First Federal Bank | Sioux City | Iowa.
Northeast Security Bank | Sumner | Iowa.
Farmers & Merchants Savings Bank | Waukon | Iowa.
Earlham Savings Bank | West Des Moines | Iowa.
Farmers Savings Bank | West Union | Iowa.
First Trust and Savings Bank | Wheatland | Iowa.
North American State Bank | Belgrade | Minnesota.
Bremer Bank National Association | Brainerd | Minnesota.
Stearns Bank Canby, N.A | Canby | Minnesota.
First National Bank of Chaska | Chaska | Minnesota.
Republic Bank, Inc. | Duluth | Minnesota.
Valley Bank—Dundas | Dundas | Minnesota.
Bremer Bank National Association | International Falls | Minnesota.
Security State Bank of Lewiston | Lewiston | Minnesota.
Minnwest Bank Luverne | Luverne | Minnesota.
Premier Bank | Maplewood | Minnesota.
Security State Bank of Marine | Marine on St. Croix | Minnesota.
Bremer Bank National Association | Marshall | Minnesota.
Franklin National Bank | Minneapolis | Minnesota.
Northeast Bank | Minneapolis | Minnesota.
First Minnetonka City Bank | Minnetonka | Minnesota.
Minnwest Bank Central | Montevideo | Minnesota.
Farmers State Bank | New London | Minnesota.
United Community Bank | Perham | Minnesota.
Farmers & Merchants State Bank | Pierz | Minnesota.
The Security State Bank of Pine Island | Pine Island | Minnesota.
First National Bank and Trust | Pipestone | Minnesota.
State Bank of Richmond | Richmond | Minnesota.
Minnesota First Credit and Savings | Rochester | Minnesota.
Pine Country Bank | Royalton | Minnesota.
Beacon Bank | Shorewood | Minnesota.
Bremer Bank National Association | South St. Paul | Minnesota.
Farmers & Merchants State Bank | Springfield | Minnesota.
Liberty Savings Bank, fsb | St. Cloud | Minnesota.
Highland Bank | St. Michael | Minnesota.
Capital Bank | St. Paul | Minnesota.
First Integrity Bank, NA | Staples | Minnesota.
Central Bank | Stillwater | Minnesota.
Northern State Bank of Thief River Falls, MN | Thief River Falls | Minnesota.
Community Bank Vernon Center | Vernon Center | Minnesota.
Paragon Bank | Wells | Minnesota.
State Bank of Wheaton | Wheaton | Minnesota.
Bremer Bank National Association | Willmar | Minnesota.
Town & Country State Bank of Winona | Winona | Minnesota.
Bank of Advance | Advance | Missouri.
Community First Bank of Missouri | Booneville | Missouri.
Carroll County S&L Association | Carrollton | Missouri.
Enterprise Bank | Clayton | Missouri.
Bank of Crocker | Crocker | Missouri.
First Midwest Bank of Dexter | Dexter | Missouri.
Farmers & Merchants Bank of Hale | Hale | Missouri.
Farmers & Commercial Bank | Holden | Missouri.
Exchange National Bank of Jefferson City | Jefferson City | Missouri.
Midwest Independent Bank | Jefferson City | Missouri.
Bank Midwest, N.A | Kansas City | Missouri.
Union Bank | Kansas City | Missouri.
First Community Bank | Knob Noster | Missouri.
First Community Bank, Missouri | Malden | Missouri.
Martinsburg Bank and Trust | Martinsburg | Missouri.
Central Bank of Lake of the Ozarks | Osage Beach | Missouri.
First Midwest Bank of Poplar Bluff | Poplar Bluff | Missouri.
Citizens Bank of Princeton | Princeton | Missouri.
Bank of Rothville | Rothville | Missouri.
Anheuser-Busch Employees' Credit Union | St. Louis | Missouri.
Citizens National Bank of Greater St. Louis | St. Louis | Missouri.
Jefferson Bank and Trust Company | St. Louis | Missouri.
St. Louis Postal Credit Union | St. Louis | Missouri.
First Community National Bank | Steelville | Missouri.
American Sterling Bank | Sugar Creek | Missouri.
Bank of Sullivan | Sullivan | Missouri.
First Midwest Bank of Carter County | Van Buren | Missouri.
West Plains Bank & Trust Company | West Plains | Missouri.
Bank of Weston | Weston | Missouri.
Bank Center First | Bismarck | North Dakota.
Bank of North Dakota | Bismarck | North Dakota.
CountryBank, USA | Cando | North Dakota.
Security First Bank of North Dakota | Center | North Dakota.
Choice Financial Group | Grafton | North Dakota.
Bremer Bank National Association | Minot | North Dakota.
American State Bank & Trust Co. of Williston | Williston | North Dakota.
Hand County State Bank | Miller | South Dakota.
First National Bank | Pierre | South Dakota.
Rushmore Bank & Trust | Rapid City | South Dakota.
The First National Bank in Sioux Falls | Sioux Falls | South Dakota.
Federal Home Loan Bank of Dallas—District 9
Union Bank of Benton | Benton | Arkansas.
The First National Bank of Berryville | Berryville | Arkansas.
First Community Bank | Conway | Arkansas.
First National Bank | De Queen | Arkansas.
The First National Bank of DeWitt | DeWitt | Arkansas.
Bank of England | England | Arkansas.
First National Bank | Glenwood | Arkansas.
First National Bank in Green Forest | Green Forest | Arkansas.
Helena National Bank | Helena | Arkansas.
Commercial Bank & Trust | Monticello | Arkansas.
First National Bank and Trust Co. of Mountain Home | Mountain Home | Arkansas.
Perry County Bank | Perryville | Arkansas.
Simmons First National Bank | Pine Bluff | Arkansas.
Bank of Prescott | Prescott | Arkansas.
Merchants and Planters Bank | Sparkman | Arkansas.
First National Bank | Arcadia | Louisiana.
Citizens National Bank of Bossier City | Bossier City | Louisiana.
Parish National Bank | Covington | Louisiana.
Catahoula—LaSalle Bank | Jonesville | Louisiana.
Hibernia National Bank | New Orleans | Louisiana.
Guaranty Bank & Trust Company | New Roads | Louisiana.
Tensas State Bank | Newellton | Louisiana.
Patterson State Bank | Patterson | Louisiana.
Iberville Trust and Savings Bank | Plaquemine | Louisiana.
Rayne State Bank & Trust Company | Rayne | Louisiana.
Teche Bank & Trust Company | St. Martinville | Louisiana.
Bank of Sunset and Trust Company | Sunset | Louisiana.
Washington State Bank | Washington | Louisiana.
Citizens Bank | Columbia | Mississippi.
Bank of Kilmichael | Kilmichael | Mississippi.
Peoples Bank | Mendenhall | Mississippi.
Bank of Morton | Morton | Mississippi.
Merchants and Planters Bank | Raymond | Mississippi.
First National Bank of Wiggins | Wiggins | Mississippi.
Valley National Bank | Espanola | New Mexico.
Lea County State Bank | Hobbs | New Mexico.
Bank of the Rio Grande | Las Cruces | New Mexico.
White Sands Federal Credit Union | Las Cruces | New. Mexico.
Bank of the Southwest | Roswell | New Mexico.
Bank of Texas | Austin | Texas.
The First National Bank of Bryan | Bryan | Texas.
First Bank and Trust of Childress | Childress | Texas.
Founders National Bank | Dallas | Texas.
Southwest Bank of Fort Worth | Fort Worth | Texas.
HomeTown Bank, N.A | Galveston | Texas.
Gruver State Bank | Gruver | Texas.
First State Bank | Hawkins | Texas.
Hull State Bank | Hull | Texas.
Industry State Bank | Industry | Texas.
The First National Bank of Refugio | Refugio | Texas.
Federal Home Loan Bank of Topeka—District 10.
Cheyenne Mountain Bank | Colorado Springs | Colorado.
Peoples National Bank, N.A | Colorado Springs | Colorado.
FirstBank of Cherry Creek | Denver | Colorado.
FirstBank of Denver | Denver | Colorado.
The Bank of Cherry Creek, N.A | Denver | Colorado.
Union Bank & Trust | Denver | Colorado.
Mesa National Bank | Grand Junction | Colorado.
FirstBank of Colorado | Lakewood | Colorado.
FirstBank of South Jeffco | Littleton | Colorado.
Labette County State Bank | Altamont | Kansas.
Union State Bank | Arkansas City | Kansas.
The Baxter State Bank | Baxter Springs | Kansas.
Community Bank | Chapman | Kansas.
First National Bank | Derby | Kansas.
Citizens State Bank | Gridley | Kansas.
Citizens State Bank and Trust Company | Hiawatha | Kansas.
The First National Bank of Hutchinson, Kansas | Hutchinson | Kansas.
Brotherhood Bank & Trust Company | Kansas City | Kansas.
Security National Bank | Manhattan | Kansas.
Peoples Bank & Trust Company | McPherson | Kansas.
First Neodesha Bank | Neodesha | Kansas.
Hillcrest Bank | Overland Park | Kansas.
Grant County Bank | Ulysses | Kansas.
Union State Bank | Uniontown | Kansas.
CornerBank, N.A | Winfield | Kansas.
Pony Express Community Bank | St. Joseph | Missouri.
Battle Creek State Bank | Battle Creek | Nebraska.
First National Bank | Beemer | Nebraska.
Columbus Bank and Trust Company | Columbus | Nebraska.
Fremont National Bank | Fremont | Nebraska.
Fullerton National Bank | Fullerton | Nebraska.
Thayer County Bank | Hebron | Nebraska.
First National Bank and Trust Company of Kearney | Kearney | Nebraska.
Union Bank & Trust Company | Lincoln | Nebraska.
McCook National Bank | McCook | Nebraska.
Adams Bank & Trust | Ogallala | Nebraska.
First Westroads Bank | Omaha | Nebraska.
Metro Health Services Federal Credit Union | Omaha | Nebraska.
Mutual First Federal Credit Union | Omaha | Nebraska.
Omaha State Bank | Omaha | Nebraska.
First National Bank in Ord | Ord | Nebraska.
First National Bank | Schuyler | Nebraska.
Stanton National Bank | Stanton | Nebraska.
Farmers & Merchants State Bank | Wayne | Nebraska.
Home National Bank | Blackwell | Oklahoma.
American State Bank | Broken Bow | Oklahoma.
Arvest Bank | Duncan | Oklahoma.
The First National Bank in Durant | Durant | Oklahoma.
First United Bank and Trust Company | Durant | Oklahoma.
Central National Bank & Trust Company | Enid | Oklahoma.
The Farmers and Merchants NB of Fairview | Fairview | Oklahoma.
Security First National Bank | Hugo | Oklahoma.
Landmark Bank Company, N.A | Madill | Oklahoma.
First Fidelity Bank | Oklahoma City | Oklahoma.
Lincoln National Bank | Oklahoma City | Oklahoma.
Southwestern Bank | Oklahoma City | Oklahoma.
Pauls Valley National Bank | Pauls Valley | Oklahoma.
Pioneer Bank & Trust Company | Ponca City | Oklahoma.
First United Bank | Sapulpa | Oklahoma.
First State Bank in Temple | Temple | Oklahoma.
Citizens Bank of Tulsa | Tulsa | Oklahoma.
First Farmers National Bank | Waurika | Oklahoma.
Federal Home Loan Bank of San Francisco—District 11
Johnson Bank Arizona | Phoenix | Arizona.
Wells Fargo Bank Arizona, N.A | Phoenix | Arizona.
First Bank of Beverly Hills, FSB | Calabasas | California.
North State National Bank | Chico | California.
Foothill Independent Bank | Glendora | California.
Imperial Capital Bank | La Jolla | California.
City National Bank | Los Angeles | California.
Gold Country National Bank | Marysville | California.
Addison Avenue Federal Credit Union | Palo Alto | California.
Mid Valley Bank | Red Bluff | California.
North Valley Bank | Redding | California.
The Mechanics Bank | Richmond | California.
The Bank of Hemet | Riverside | California.
Trans Pacific National Bank | San Francisco | California.
Montecito Bank and Trust | Santa Barbara | California.
First Fidelity Investment and Loan | Tustin | California.
Bank of American California, NA | Walnut Creek | California.
Bank of the West | Walnut Creek | California.
First Financial Credit Union | West Covina | California.
Nevada State Bank | Las Vegas | Nevada.
Federal Home Loan Bank of Seattle—District 12
Bank of Hawaii | Honolulu | Hawaii.
D.L. Evans Bank | Burley | Idaho.
Citizens Bank & Trust Company | Big Timber | Montana.
First Interstate Bank | Billings | Montana.
Wells Fargo Bank Wyoming, N.A | Billings | Montana.
Bank of Bridger | Bridger | Montana.
Citizens State Bank of Choteau | Choteau | Montana.
State Bank & Trust Company | Dillon | Montana.
First National Bank of Fairfield | Fairfield | Montana.
First Security Bank of Malta | Malta | Montana.
First Citizens Bank of Polson | Polson | Montana.
First State Bank of Thompson Falls | Thompson Falls | Montana.
Ruby Valley National Bank | Twin Bridges | Montana.
Bank of the Rockies, N.A | White Sulphur Springs | Montana.
Whitefish Credit Union Association | Whitefish | Montana.
O.S.U. Federal Credit Union | Corvallis | Oregon.
The Merchants Bank | Gresham | Oregon.
Community Bank | Joseph | Oregon.
State Employees Credit Union | Salem | Oregon.
Barnes Banking Company | Kaysville | Utah.
Cache Valley Bank | Logan | Utah.
Peoples Bank | Lynden | Washington.
Pend Oreille Bank | Newport | Washington.
Inland Northwest Bank | Spokane | Washington.
Sound Credit Union | Tacoma | Washington.
Clark County School Employees Credit Union | Vancouver | Washington.
Shoshone First Bank | Cody | Wyoming.

II. Public Comments

To encourage the submission of public comments on the community support performance of Bank members, on or before April 26, 2002, each Bank will notify its Advisory Council and nonprofit housing developers, community groups, and other interested parties in its district of the members selected for community support review in the 2002-03 first quarter review cycle. 12 CFR 944.2(b)(2)(ii). In reviewing a member for community support compliance, the Finance Board will consider any public comments it has received concerning the member. 12 CFR 944.2(d). To ensure consideration by the Finance Board, comments concerning the community support performance of members selected for the 2002-03 first quarter review cycle must be delivered to the Finance Board on or before the May 31, 2002 deadline for submission of Community Support Statements.

By the Federal Housing Finance Board.
Dated: March 22, 2002.
James L. Bothwell,
Managing Director.

[FR Doc. 02-7531 Filed 4-11-02; 8:45 am]

BILLING CODE 6725-01-P